ENVIRONMENTAL PROTECTION AGENCY

40 CFR Part 300

[EPA-HQ-SFUND-2000-0006; FRL-9950-61-Region 2]

National Oil and Hazardous Substances Pollution Contingency Plan; National Priorities List: Deletion of the Jackson Steel Superfund Site

AGENCY: Environmental Protection Agency (EPA).

ACTION: Proposed rule; notice of intent for deletion.

SUMMARY: The Environmental Protection Agency (EPA), Region 2, is issuing this Notice of Intent to Delete (NOID) the Jackson Steel Site, located in the Village of Mineola, Nassau County, New York, from the National Priorities List (NPL) and requests public comments on this proposed action. The NPL, promulgated pursuant to Section 105 of the Comprehensive Environmental Response, Compensation and Liability Act (CERCLA) of 1980, as amended, is an appendix of the National Oil and Hazardous Substances Pollution Contingency Plan. EPA and the State of New York, through the New York State Department of Environmental Conservation (NYSDEC), have determined that other than the ongoing operation and maintenance of the vapor intrusion mitigation systems at the daycare center, periodic vapor intrusion monitoring, ensuring that the institutional controls are in place and effective, and five-year reviews, all appropriate response actions under CERCLA have been completed at the Site and that the soil on the Site and the groundwater beneath the Site no longer pose a threat to public health or the environment.

DATES: Comments must be received by September 12, 2016.

ADDRESSES: Submit your comments, identified by Docket ID no. EPA-HQ-SFUND-2000-0006, by mail to Joel Singerman, Chief, Central New York Remediation Section, Emergency and Remedial Response Division, U.S. Environmental Protection Agency, Region 2, 290 Broadway, 20th Floor, New York, NY, 10007-1866. Comments may also be submitted electronically or through hand delivery/courier by following the detailed instructions in the “Addresses” section of the direct final rule located in the rules section of this Federal Register.

FOR FURTHER INFORMATION CONTACT: Joel Singerman at the address noted in the ADDRESSES section; by telephone at 212-637-4258; or by email at singerman.joel@epa.gov.

SUPPLEMENTARY INFORMATION: In the “Rules and Regulations” Section of today's Federal Register, EPA is publishing a direct final Notice of Deletion (NOD) of the Site without a prior NOID because EPA views this as a noncontroversial revision and anticipates no adverse comment. EPA has explained its reasons for this deletion in the preamble to the direct final NOD. If EPA receives no adverse comment(s) on this deletion action, EPA will proceed with the deletion without further action on this NOID. If EPA receives adverse comment(s), EPA will withdraw the direct final NOD, and it will not take effect. EPA will, as appropriate, address all public comments in a subsequent final NOD based on this NOID. EPA will not institute a second comment period on this NOID. Any parties interested in commenting must do so at this time.

For additional information, see the direct final NOD, which is located in the “Rules” section of this Federal Register.

List of Subjects in 40 CFR Part 300

Environmental protection, Air pollution control, Chemicals, Hazardous waste, Hazardous substances, Intergovernmental relations, Penalties, Reporting and recordkeeping requirements, Superfund, Water pollution control, Water supply.

Authority: 33 U.S.C. 1321(c)(2); 42 U.S.C. 9601-9675; E.O. 12777, 56 FR 54757, 3 CFR, 1991 Comp., p. 351; E.O. 12580, 52 FR 2923, 3 CFR, 1987 Comp., p. 193.

Dated: August 2, 2016.
Judith A. Enck,
Regional Administrator, EPA Region.

[FR Doc. 2016-19142 Filed 8-11-16; 8:45 am]

BILLING CODE 6560-50-P